DEPARTMENT OF TRANSPORTATION

Federal Aviation Administration

14 CFR Part 39

[Docket No. FAA-2011-1096; Directorate Identifier 2011-NM-185-AD; Amendment 39-16848; AD 2011-22-06]

RIN 2120-AA64

Airworthiness Directives; Bombardier, Inc. Model CL-215-1A10, CL-215-6B11 (CL-215T Variant), and CL-215-6B11 (CL-415 Variant) Airplanes

AGENCY: Federal Aviation Administration (FAA), Department of Transportation (DOT).

ACTION: Final rule; request for comments.

SUMMARY: We are adopting a new airworthiness directive (AD) for certain Bombardier, Inc. Model CL-215-1A10, CL-215-6B11 (CL-215T Variant), and CL-215-6B11 (CL-415 Variant) airplanes. This AD results from mandatory continuing airworthiness information (MCAI) originated by an aviation authority of another country to identify and correct an unsafe condition on an aviation product. The MCAI describes the unsafe condition as:

Multiple cracks were reported on the Main Landing Gear (MLG) upper member forward lug, part numbers 160-714-3 (L/H) and 160-714-4 (R/H). An investigation determined the cause to be fatigue cracks at the base of the step radius with multiple initiation sites. The fatigue cracking may compromise the structural integrity of the MLG during takeoff or landing, leading to failure.

* * * * *

This AD requires actions that are intended to address the unsafe condition described in the MCAI.

DATES: This AD becomes effective November 14, 2011.

The Director of the Federal Register approved the incorporation by reference of certain publications listed in the AD as of November 14, 2011.

We must receive comments on this AD by December 12, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Aziz Ahmed, Aerospace Engineer, Airframe and Mechanical Systems Branch, ANE-171, FAA, New York Aircraft Certification Office, 1600 Stewart Avenue, Suite 410, Westbury, New York 11590; telephone (516) 228-7329; fax (516) 794-5531.

SUPPLEMENTARY INFORMATION:

Discussion

Transport Canada Civil Aviation (TCCA), which is the aviation authority for Canada, has issued Canadian Airworthiness Directive CF-2011-35, dated August 29, 2011 (referred to after this as “the MCAI”), to correct an unsafe condition for the specified products. The MCAI states:

Multiple cracks were reported on the Main Landing Gear (MLG) upper member forward lug, part numbers 160-714-3 (L/H) and 160-714-4 (R/H). An investigation determined the cause to be fatigue cracks at the base of the step radius with multiple initiation sites. The fatigue cracking may compromise the structural integrity of the MLG during takeoff or landing, leading to failure.

This [Canadian] directive mandates repetitive eddy current inspections and a one-time fluorescent penetrant inspection of the MLG upper member forward lugs to determine fleet condition. Pending fleet inspection results, further action may result to mitigate the risk of failure due to fatigue cracks.

The action includes inspecting for any cracks. The corrective action is replacing the forward lug of the MLG upper member with a new forward lug if any crack is found. You may obtain further information by examining the MCAI in the AD docket.

Relevant Service Information

Bombardier has issued Alert Service Bulletin 215-A548, dated July 15, 2011; Alert Service Bulletin 215-A4451, dated July 15, 2011; Alert Service Bulletin 215-A547, dated July 8, 2011; and Alert Service Bulletin 215-A4450, dated July 8, 2011. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

An unsafe condition exists that requires the immediate adoption of this AD. The FAA has found that the risk to the flying public justifies waiving notice and comment prior to adoption of this rule because multiple cracks were reported on the forward lug of the upper member of the MLG. An investigation determined the cause to be fatigue cracking at the base of the step radium with multiple initiation sites. The fatigue cracking could adversely affect the structural integrity of the MLG during takeoff or landing. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2011-1096; Directorate Identifier 2011-NM-185-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-22-06 Bombardier, Inc.: Amendment 39-16848. Docket No. FAA-2011-1096; Directorate Identifier 2011-NM-185-AD.

Effective Date

(a) This airworthiness directive (AD) becomes effective November 14, 2011.

Affected ADs

(b) None.

Applicability

(c) This AD applies to Bombardier, Inc., airplanes, certificated in any category, identified in paragraphs (c)(1), (c)(2), and (c)(3) of this AD.

(1) Model CL-215-1A10 airplanes, serial numbers 1051 through 1125 inclusive;

(2) Model CL-215-6B11 (CL-215T Variant) airplanes, serial numbers 1056 through 1125 inclusive; and

(3) Model CL-215-6B11 (CL-415 Variant) airplanes, serial numbers 2001 through 2990 inclusive.

Subject

(d) Air Transport Association (ATA) of America Code 32: Landing Gear.

Reason

(e) The mandatory continued airworthiness information (MCAI) states:

Multiple cracks were reported on the Main Landing Gear (MLG) upper member forward lug, part numbers 160-714-3 (L/H) and 160-714-4 (R/H). An investigation determined the cause to be fatigue cracks at the base of the step radius with multiple initiation sites. The fatigue cracking may compromise the structural integrity of the MLG during takeoff or landing, leading to failure.

* * * * *

Compliance

(f) You are responsible for having the actions required by this AD performed within the compliance times specified, unless the actions have already been done.

Eddy Current Inspections

(g) Within 50 flight hours after the effective date of this AD: Perform an in situ eddy current inspection for cracks on the forward lug of the MLG upper member, part numbers 160-714-3 (left hand) and 160-714-4 (right hand), in accordance with the Accomplishment Instructions of Bombardier Alert Service Bulletin 215-A548, dated July 15, 2011 (for Model CL-215-1A10 airplanes, and Model CL-215-6B11 (CL-215T Variant) airplanes); or Bombardier Alert Service Bulletin 215-A4451, dated July 15, 2011 (for Model CL-215-6B11 (CL-415 Variant) airplanes).

(1) If any crack is found: Before further flight, replace the forward lug of the MLG upper member with a new forward lug, in accordance with the Accomplishment Instructions of Bombardier Alert Service Bulletin 215-A548, dated July 15, 2011 (for Model CL-215-1A10 airplanes, and Model CL-215-6B11 (CL-215T Variant) airplanes); or Bombardier Alert Service Bulletin 215-A4451, dated July 15, 2011 (for Model CL-215-6B11 (CL-415 Variant) airplanes). Thereafter, repeat the in situ eddy current inspection at intervals not to exceed 165 land landings.

(2) If no crack is found: Repeat the in situ eddy current inspection at intervals not to exceed 165 land landings, in accordance with the Accomplishment Instructions of Bombardier Alert Service Bulletin 215-A548, dated July 15, 2011 (for Model CL-215-1A10 airplanes, and Model CL-215-6B11 (CL-215T Variant) airplanes); or Bombardier Alert Service Bulletin 215-A4451, dated July 15, 2011 (for Model CL-215-6B11 (CL-415 Variant) airplanes).

Fluorescent Penetrant Inspection

(h) Within two months after the effective date of this AD: Perform a one-time fluorescent penetrant inspection for cracks on the forward lug of the MLG upper member, part numbers 160-714-3 (left hand) and 160-714-4 (right hand), in accordance with the Accomplishment Instructions of Bombardier Alert Service Bulletin 215-A547, dated July 8, 2011 (for Model CL-215-1A10 airplanes, and Model CL-215-6B11 (CL-215T Variant) airplanes); or Bombardier Alert Service Bulletin 215-A4450, dated July 8, 2011 (for Model CL-215-6B11 (CL-415 Variant) airplanes). If any crack is found, before further flight, replace the forward lug of the MLG upper member with a new forward lug, in accordance with the Accomplishment Instructions of Bombardier Alert Service Bulletin 215-A547, dated July 8, 2011 (for Model CL-215-1A10 airplanes, and Model CL-215-6B11 (CL-215T Variant) airplanes); or Bombardier Alert Service Bulletin 215-A4450, dated July 8, 2011 (for Model CL-215-6B11 (CL-415 Variant) airplanes).

FAA AD Differences

Note 1: This AD differs from the MCAI and/or service information as follows:

If any cracking is found during any in situ eddy current inspection specified in paragraph (g) of this AD, and the forward lug of the MLG upper member is replaced, this AD requires repetitive in situ eddy current inspections, thereafter, at intervals not to exceed 165 land landings. Canadian Airworthiness Directive CF-2011-35, dated August 29, 2011, does not include this requirement.

Other FAA AD Provisions

(i) The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the New York ACO, send it to Attn: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Special Flight Permits: Special flight permits, as described in Section 21.197 and Section 21.199 of the Federal Aviation Regulations (14 CFR 21.197 and 21.199), are not allowed.

Related Information

(k) Refer to MCAI Canadian Airworthiness Directive CF-2011-35, dated August 29 2011; Bombardier Alert Service Bulletin 215-A548, dated July 15, 2011; Bombardier Alert Service Bulletin 215-A4451, dated July 15, 2011; Bombardier Alert Service Bulletin 215-A547, dated July 8, 2011; and Bombardier Alert Service Bulletin 215-A4450, dated July 8, 2011; for related information.

Material Incorporated by Reference

(l) You must use Bombardier Alert Service Bulletin 215-A548, dated July 15, 2011; Bombardier Alert Service Bulletin 215-A4451, dated July 15, 2011; Bombardier Alert Service Bulletin 215-A547, dated July 8, 2011; and Bombardier Alert Service Bulletin 215-A4450, dated July 8, 2011; as applicable; to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on October 13, 2011.
Ali Bahrami,
Manager, Transport Airplane Directorate, Aircraft Certification Service.

[FR Doc. 2011-27599 Filed 10-26-11; 8:45 am]

BILLING CODE 4910-13-P